TENNESSEE VALLEY AUTHORITY

Sunshine Act Meeting

Agency Holding the Meeting: Tennessee Valley Authority (Meeting No. 1560).

Time and Date: 9 a.m. (EDT), July 22, 2005, TVA West Tower Auditorium, 400 West Summit Hill Drive, Knoxville, Tennessee.

Status: Open.

Agenda

Approval of minutes of meeting held on May 4, 2005.

New Business

A—Budget and Financing

A1. Proposed Rate Adjustment.

A2. Proposed Fiscal Year 2006 TVA Budget.

C—Energy

C1. Contract with Thunder Basin Coal Company LLC for Powder River Basin coal to supply various TVA fossil plants.

C2. Contract with Kennecott Energy and Coal Company and Antelope Coal for Power River Basin coal to supply various TVA fossil plants.

C3. Supplement to contract with IBM Corporation for mainframe products and services.

E—Real Property Transactions

E1. Sale of four noncommercial, nonexclusive permanent easements, affecting approximately 1.09 acres of land on Tellico Reservoir in Monroe and Loudon Counties, Tennessee, Tract Nos. XTELR-250RE, XTELR-251RE, XTELR-252RE, and XTELR-253RE.

E2. Modification of certain deed restrictions affecting approximately 3.9 acres of former TVA land on Norris Reservoir in Union County, Tennessee, Tract No. XNR-805, S.6X, to allow placement of fill and construction of dwellings and structures by Southland Group, Inc., owner and operator of Andersonville Marina and Campground.

E3. Sale of a permanent easement to TDS Telecom, Inc., for a telecommunication switching station, affecting approximately .02 acre of land on Fort Loudoun Reservoir in Knox County, Tennessee, Tract No. XFL-141E.

E4. Abandonment of certain transmission line easement rights affecting approximately 15.37 acres, Tract No. MWJS-23, in exchange for transmission line easement rights from Jackson Energy Authority, affecting approximately 11.51 acres in Madison County, Tennessee, Tract Nos. MWSJR-2, MWSJR-3, and MWSJR-4.

E5. Abandonment of certain transmission line easement rights affecting approximately 4.89 acres, Tract Nos. HUC-74 and HUC-75, in exchange for transmission line easement rights from Waste Management, Inc., affecting approximately 7.02 acres of land in Benton County, Tennessee, Tract Nos. HUCR-1 and HUCR-3.

E6. Abandonment of certain easement rights affecting approximately 84.9 acres of private land on Wilson Reservoir, Tract Nos. WDRE4A, S.4X and WDRE4A, S.5X, in Lawrence County, Alabama, to allow existing cabins making up a part of Doublehead Resort to remain at this location.

E7. Grant of a noncommercial, nonexclusive permanent easement to Charles Perry, affecting approximately .43 acre of TVA land, Tract No. XGIR-943RE, for construction and maintenance of recreational water-use facilities, in exchange for approximately .55 acre of private land, Tract No. XGIR-3948, and Mr. Perry's agreement to extinguish access rights affecting approximately .1 acre of TVA land, Tract No. XGIR-666, S.1X, on Kentucky Reservoir in Benton and Henry Counties, Tennessee, and land use allocation change to the Kentucky Reservoir Land Management Plan to reflect these changes.

F—Other

F1. Approval to file condemnation cases to acquire easements and rights-of-way for transmission line projects affecting the Murphy-Nottely and the Murphy-Chatuge Transmission Lines in Cherokee County, North Carolina.

Information Items

1. Approval of delegations of authority relating to procurement contracts, financings, and personnel and compensation actions for an interim period, commencing June 20, 2005, and ending December 31, 2005.

2. Approval to file condemnation cases to acquire the right to enter to survey, appraise, and perform title investigations and related activities for the acquisition of easements and rights-of-way for the Cumberland Fossil Plant-Montgomery Transmission Line in Stewart County, Tennessee.

3. Approval to file condemnation cases to acquire easements and rights-of-way for the Aspen Grove-Westhaven Transmission Line in Williamson County, Tennessee, and the Murphy-Blairsville Tap to Ranger Transmission Line in Cherokee County, North Carolina.

4. Approval of a grant of a permanent easement to the Scottsboro Water Works, Sewer and Gas Board for the construction of a sewer line, affecting approximately .46 acre of land in Jackson County, Alabama, Tract No. XTGR-176S.

5. Approval of a grant of a permanent easement to the City of Chattanooga for highway relocation purposes and modification of utility and road easements necessary for a highway relocation project, affecting approximately 14.1 acres of land in Hamilton County, Tennessee, Tract No. XTCR-204H.

6. Approval of delegation of authority to the Executive Vice President and General Counsel to review and approve the Financial Disclosure Report filed by TVA's Designated Agency Ethics Official.

7. Approval of delegation of authority to the Executive Vice President, Fossil Power Group, to enter into a contract with the CIT Group Inc. for the lease of railroad cars.

8. Approval to enter in blanket contracts with GTSI Corp., Direct Integration Specialists, Northrop Grumman, and Netstar-1 for desktop equipment, servers, and maintenance for TVA's information technology infrastructure.

9. Approval to enter into a contract with RWE NUKEM, Inc., for the purchase of uranium hexafluoride to supply nuclear fuel for Browns Ferry Nuclear Plants Units 1 and 3.

10. Approval to revise and extend the Competitive Indexed Rate arrangements with BP Amoco Chemical Corporation.

11. Approval of adjusted blended energy prices under the Time-of-Use Blended Pricing Program arrangements with Arnold Engineering Development Center.

12. Approval to revise and extend the Competitive Indexed Rate arrangements with ISP Chemicals, Inc., Westlake Chemical Corporation, Arkema Inc., and Logan Aluminum Inc.

13. Approval to establish a Financial Trading Program for the purpose of hedging or otherwise limiting economic risks directly associated with the cost of natural gas and fuel oil for TVA's power generation operations, as well as certain other risks.

14. Approval of a delegation of authority to the Vice President, Corporate Finance and Risk Management, and designees, to purchase, renew, and take other actions in connection with directors and officers insurance under an existing contract with Marsh USA, Inc.

15. Approval to sell options to enter into an interest rate swap associated with call provisions that TVA has on approximately $42 million of power bonds and to take related actions.

16. Approval of a delegation of authority to the Chief Financial Officer and others to enter into credit facilities with one or more financial institutions not to exceed $5 billion at a time and to borrow under those credit facilities.

17. Approval to sell up to $1 billion of TVA power bonds.

18. Approval to sell up to $1 billion of TVA power bonds.

19. Approval of the amortization of deferred nuclear generating unit costs.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 14, 2005.
Maureen H. Dunn,
General Counsel and Secretary.

[FR Doc. 05-14219 Filed 7-15-05; 10:23 am]

BILLING CODE 8120-08-P